DEPARTMENT OF HEALTH AND HUMAN SERVICES

Centers for Medicare & Medicaid Services

[Document Identifier: CMS-2540-23 and CMS-10448]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by November 27, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-2540-23—Skilled Nursing Facility and Skilled Nursing Facility Healthcare Complex Report

CMS-10448—Essential Health Benefits Benchmark Plans

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Reinstatement with change; Title of Information Collection: Skilled Nursing Facility and Skilled Nursing Facility Complex Cost Repot; Use: The primary function of the cost report is to implement the principles of cost reimbursement that require that SNFs maintain sufficient financial records and statistical data for proper determination of costs payable under the program. Specifically, CMS-2540-23 collects discrete data, previously reported in summary form, used in determining the cost weights for the SNF market basket and for payment adequacy analyses. SNFs and SNF health care complexes participating in the Medicare program submit these cost reports annually to report cost and statistical data used by CMS to determine reasonable costs. Essentially the methods of determining costs payable under Medicare involve making use of data available from the provider's accounting records, as usually maintained, to arrive at equitable and proper payment for services to beneficiaries.; Form Number: CMS-2540-23 (OMB control number: 0938-0463); Frequency: Annually; Affected Public: Private Sector, (Business or other for-profits), Not-for-profit institutions; Number of Respondents: 14,189; Total Annual Responses: 14,189; Total Annual Hours: 2,866,178. (For policy questions regarding this collection contact Luann Piccione at 410-786-5423.)

2. Type of Information Collection Request: Revision of a currently approved collection; Title of Information Collection: Essential Health Benefits Benchmark Plans; Use: On March 23, 2010, the Patient Protection and Affordable Care Act (PPACA; Pub. L. 111-148) was signed into law, and on March 30, 2010, the Health Care and Education Reconciliation Act of 2010 (Pub. L. 111-152) was signed into law. The two laws implement various health insurance policies, including the essential health benefits (EHB). Beginning in 2014, all non-grandfathered health plans in the individual and small group market must cover EHB, as defined by the Secretary of Health and Human Services.

In the final rule entitled HHS Notice of Benefit and Payment Parameters for 2023 (2023 Payment Notice; CMS-9911-F),² we repealed the ability for States to permit between category substitution of the EHBs at 45 CFR 156.115. Thus, we revise this Supporting Statement to remove any burden associated with States opting to permit between category substitution of the EHBs and remove the form Essential Health Benefits (EHB) State Substitution Notification (Appendix F) from this collection.

For annual reporting of state mandates, in the final rule entitled HHS Notice of Benefit and Payment Parameters for 2021 (2021 Payment Notice; CMS-9916-F),³ we finalized amendments to § 156.111(d) and adding new § 156.111(f) to require states to annually notify HHS in a format and manner specified by HHS, and by a date determined by HHS, of any state-required benefits applicable to QHPs in the individual and/or small group market that are considered to be “in addition to EHB” in accordance with § 155.170(a)(3).

In the final rule entitled HHS Notice of Benefit and Payment Parameters for 2023 (2023 Payment Notice; CMS-9911-F), we repealed the annual reporting requirement at § 156.111(d) and (f), including revising the section heading to § 156.111 to instead read, “State selection of EHB benchmark plan for PYs beginning on or after January 1, 2020.” Thus, we have revised this Supporting Statement to reflect that States are no longer required to annually notify HHS of any State-required benefits applicable to QHPs in the individual or small group market that are considered to be “in addition to EHB” or any benefits the State has identified as not in addition to EHB and not subject to defrayal. We also remove the forms State Annual Report on State-Required Benefits (Appendix G) and State Certification of Annual Report on State-Required Benefits (Appendix H) from this collection.

This information collection also previously included estimates for the burden on issuers to report their intent to offer SADPs. We no longer collect this information from issuers; we revise this Supporting Statement to remove the burden associated with this report. In this package, we make minimum required revisions to reflect only the regulatory changes that have occurred since it was last authorized in 2021. Form Number: CMS-10448 (OMB control number: 0938-1174); Frequency: Annually; Affected Public: State, Local, or Tribal Governments; Number of Respondents: 10; Number of Responses: 10; Total Annual Hours: 470. (For questions regarding this collection, contact Ken Buerger at 410-786-1190).

Dated: September 22, 2023.
William N. Parham, III,
Director, Paperwork Reduction Staff, Office of Strategic Operations and Regulatory Affairs.

[FR Doc. 2023-21122 Filed 9-26-23; 8:45 am]

BILLING CODE 4120-01-P